DEPARTMENT OF LABOR

Employment and Training Administration

[TA-W-65,847]

Timbar Packaging and Display, Oneida Division, Vernon, NY; Notice of Termination of Investigation

Pursuant to Section 221 of the Trade Act of 1974, as amended, an investigation was initiated on April 24, 2009 in response to a petition filed by a company official on behalf of workers of TimBar Packaging and Display, Oneida Division, Vernon, New York.

The petitioner has requested that the petition be withdrawn. Therefore, the investigation under this petition has been terminated.

Signed at Washington, DC, this 27th day of April 2009.
Linda G. Poole,
Certifying Officer, Division of Trade Adjustment Assistance.

[FR Doc. E9-11845 Filed 5-20-09; 8:45 am]

BILLING CODE 4510-FN-P